DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF), as follows: Chapter KR, Office of Refugee Resettlement, as last amended in 68 FR 11566-67, 03/11/03. This notice adds a new division, the Anti-Trafficking in Persons Division, to the Office of Refugee Resettlement. The changes are as follows:

I. Chapter KR. Office of Refugee Resettlement

A. Delete KR.10 Organization in its entirety and replace with the following:

KR.10 Organization. The Office of Refugee Resettlement (ORR) is headed by a Director who reports directly to the Assistant Secretary for Children and Families and consists of:

Office of the Director (KRA).

Division of Refugee Assistance (KRE).

Division of Community Resettlement (KRF).

Division of Budget, Policy and Data Analysis (KRG).

Division of Unaccompanied Children's Services (KRH).

Anti-Trafficking in Persons Division (KRI).

B. Delete KR.20 Functions, Paragraph A, in its entirety and replace with the following:

A. The Office of the Director is directly responsible to the Assistant Secretary for Children and Families for carrying out ORR's mission and providing guidance and general supervision to the components of ORR. The Office provides direction in the development of program policy and budget and in the formulation of salaries and expense budgets. Staff also provide administrative and personnel support services. The Office is responsible for implementing certain provisions of the Trafficking Victims Protection Act.

The Office coordinates with the lead refugee and entrant program offices of other Federal departments; provides leadership in representing refugee and entrant programs, policies and administration to a variety of governmental entities and other public and private interests; and acts as the coordinator of the total refugee and entrant resettlement effort for ACF and the Department. In consultation with appropriate juvenile justice professionals and Federal immigration services and border security agencies, the Director makes placement determinations and coordinates care and placement services for unaccompanied alien children who are in Federal custody by reason of their immigration status.

C. Establish KR.20 Functions, Paragraph F, Anti-Trafficking in Persons Division:

F. The Anti-Trafficking in Persons Division (ATIP) is responsible for implementing certain provisions of the Trafficking Victims Protection Act. The Division coordinates the certification of, and services to, victims of severe forms of trafficking. It also coordinates with other Federal Government agencies on certification activities and policy issues related to the trafficking law. The Division certifies victims of severe forms of trafficking following consultation with appropriate Federal Government agencies and social service-providing agencies. The Division coordinates with the Division of Unaccompanied Children's Services and the Division of Refugee Assistance for efficient and appropriate determination and placement of identified unaccompanied minor victims of trafficking, utilizing the foster care system in place for unaccompanied refugee children. The Division also maintains statistical information and data on each victim, including certification documentation and services provided. The Division compiles annual information to be submitted to Congress, in coordination with other Federal agencies, on the number of certifications conducted and services accessed by identified victims.

Dated: January 11, 2008.
Daniel C. Schneider,
Acting Assistant Secretary for Children and Families.

[FR Doc. E8-1466 Filed 1-28-08; 8:45 am]

BILLING CODE 4184-01-P